DEPARTMENT OF THE INTERIOR

National Park Service

[NPS-WASO-NAGPRA-18585; PPWOCRADN0-PCU00RP14.R50000]

Notice of Intent To Repatriate Cultural Items: Heard Museum, Phoenix, AZ

AGENCY: National Park Service, Interior.

ACTION: Notice.

SUMMARY: The Heard Museum, in consultation with the Navajo Nation, Arizona, New Mexico & Utah, has determined that the cultural item listed in this notice meets the definition of sacred object and object of cultural patrimony. Lineal descendants or representatives of any Indian tribe or Native Hawaiian organization not identified in this notice that wish to claim this cultural item should submit a written request to the Heard Museum. If no additional claimants come forward, transfer of control of the cultural item to the Navajo Nation, Arizona, New Mexico & Utah may proceed.

DATES: Lineal descendants or representatives of any Indian tribe or Native Hawaiian organization not identified in this notice that wish to claim this cultural item should submit a written request with information in support of the claim to the Heard Museum at the address in this notice by September 8, 2015.

ADDRESSES: John Bulla, Interim Director/CEO, Heard Museum, 2301 N. Central Avenue, Phoenix, AZ 85004, telephone (602) 346-8188, email jbulla@heard.org.

SUPPLEMENTARY INFORMATION: Notice is here given in accordance with the Native American Graves Protection and Repatriation Act (NAGPRA), 25 U.S.C. 3005, of the intent to repatriate a cultural item under the control of the Heard Museum, Phoenix, AZ, that meets the definition of sacred object and object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

Around 1974, one cultural item was removed from the Navajo Nation, Arizona, New Mexico & Utah, and in 1979 it was donated to the Heard Museum. The cultural item is a Hochxo Jish (Evil Way Medicine Bundle).

Representatives of the Navajo Nation, Arizona, New Mexico & Utah, examined the cultural item, consulted with museum staff, and identified it as a Navajo Jish that is used in the Hochxo Ceremony (Evil Way), a ceremony that is still widely practiced by members of the Navajo tribe. The Navajo people believe that jish are alive and must be treated with respect. These are sacred objects as well as objects of cultural patrimony and are made by knowledgeable Navajo people. In order to possess jish, one must have the proper ceremonial knowledge with which to care for and utilize them.

Determinations Made by the Heard Museum

Officials of the Heard Museum have determined that:

• Pursuant to 25 U.S.C. 3001(3)(C), the cultural item described above is a specific ceremonial object needed by traditional Native American religious leaders for the practice of traditional Native American religions by their present-day adherents.

• Pursuant to 25 U.S.C. 3001(3)(D), the cultural item described above has ongoing historical, traditional, or cultural importance central to the Native American group or culture itself, rather than property owned by an individual.

• Pursuant to 25 U.S.C. 3001(2), there is a relationship of shared group identity that can be reasonably traced between the Hochxo Jish (Evil Way Medicine Bundle) and the Navajo Nation, Arizona, New Mexico & Utah.

Additional Requestors and Disposition

Lineal descendants or representatives of any Indian tribe or Native Hawaiian organization not identified in this notice that wish to claim this cultural item should submit a written request with information in support of the claim to John Bulla, Interim Director/CEO, Heard Museum, 2301 N. Central Avenue, Phoenix, AZ 85004, telephone (602) 346-8188, email jbulla@heard.org, by September 8, 2015. After that date, if no additional claimants have come forward, transfer of control of the Hochxo Jish (Evil Way Medicine Bundle) to the Navajo Nation, Arizona, New Mexico & Utah, may proceed.

The Heard Museum is responsible for notifying the Navajo Nation, Arizona, New Mexico & Utah, that this notice has been published.

Dated: June 29, 2015.
Melanie O'Brien,
Manager, National NAGPRA Program.

[FR Doc. 2015-19265 Filed 8-5-15; 8:45 am]

BILLING CODE 4312-50-P